APPRAISAL SUBCOMMITTEE OF THE FEDERAL FINANCIAL INSTITUTIONS EXAMINATION COUNCIL

[Docket No. AS25-12]

Appraisal Subcommittee; Notice of Meeting

AGENCY: Appraisal Subcommittee of the Federal Financial Institutions Examination Council.

ACTION: Notice of special closed meeting.

Description: In accordance with section 1104(b) of title XI of the Financial Institutions Reform, Recovery, and Enforcement Act of 1989 (title XI), codified at 12 U.S.C. 3333(b), and the Appraisal Subcommittee (ASC) Rules of Operation, notice is hereby given that the ASC is meeting for a Special Closed Meeting on November 20, 2025.

Location: Virtual Meeting via MS Teams.

Date: November 20, 2025.

Time: 11:00 a.m. ET.

Action and Discussion Item

Personnel Matters

The ASC is convening a Special Closed Meeting to discuss and take vote on personnel matters, pursuant to section 1104(b) of title XI (12 U.S.C. 3333(b)).

Natalie Lutz,
Attorney-Advisor.

[FR Doc. 2025-20261 Filed 11-18-25; 8:45 am]

BILLING CODE 6700-01-P